DEPARTMENT OF ENERGY

Federal Energy Regulatory Commission

[Project No. 2705-037]

Seattle City Light; Notice of Application for Surrender of License, Soliciting Comments, Motions To Intervene, and Protests; and Notice of Existing Licensee's Intent Not To File a New License Application

Take notice that the following hydroelectric application has been filed with the Commission and is available for public inspection:

a. Type of Proceeding: Application for surrender of license.

b. Project No.: 2705-037.

c. Date Filed: January 28, 2022.

d. Licensee: Seattle City Light.

e. Name of Project: Newhalem Creek Hydroelectric Project.

f. Location: The project is located on the Newhalem Creek in Whatcom County, Washington. The project occupies federal lands within the Ross Lake National Recreation Area managed by the National Park Service.

g. Filed Pursuant to: Federal Power Act, 16 U.S.C. 791a-825r.

h. Licensee Contact: Mr. Michael Haynes, Assistant General Manager, Seattle City Light, P.O. Box 3402, Seattle, WA 98124.

i. FERC Contact: Diana Shannon, (202) 502-6136, diana.shannon@ferc.gov.

j. Deadline for filing comments, interventions, and protests: May 31, 2022.

The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2705-037.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee proposes to surrender the project which occupies 6.4 acres of federal land managed by the National Park Service. The licensee states that the project is no longer operational and had not been consistently in service since 2010 due to the following issues: Leaks in the power tunnel; maintenance needs at the headworks and powerhouse; and safety concerns along the access road due to an active landslide. The licensee states that the revenues anticipated form continued operation of the Project were exceeded by the estimated costs of making the needed repairs and seeking relicensing. In its surrender application, the licensee proposes to: Remove the diversion dam and associated headworks structures, tailrace fish barrier, and certain overhead transmission lines; seal the rock shaft and power tunnel; decommission the access road and powerhouse; and leave the powerhouse, tailrace, and penstock in place. The current license expires on January 31, 2027.

l. At least five years, but no more than five and one-half years, before the expiration of a license for a major water power project subject to sections 14 and 15 of the Federal Power Act, the licensee must file with the Commission a letter that contains an unequivocal statement of the licensee's intent to file or not to file an application for a subsequent license. 18 CFR 16.6(a)-(c) (2021).

m. If such a licensee informs the Commission that it does not intend to file an application for a new license, nonpower license, or exemption for the project, the licensee may not file an application for a new license, nonpower license, or exemption for the project, either individually or in conjunction with an entity or entities that are not currently licensees of the project. 18 CFR 16.24(a).

n. On April 28, 2021, Seattle City Light, the existing licensee for the Newhalem Creek Hydroelectric Project No. 2705, filed notice of its intent to not file an application for a new license.¹ On January 28, 2022, Seattle City Light filed an application for surrender of license. By filing a notice of intent not to file an application for a new license and an application to surrender its license, Seattle City Light has clearly expressed its intent not to file an application for a new license.

¹ Because Seattle City Light filed the notice of intent to not file an application for a new license more than five and one-half years before the expiration of the license and filed an application for surrender of license more than five years but not more than five and one-half years before the expiration of the license, we waive the applicable requirement in 18 CFR 16.6(c)(1).

o. Locations of the Application: This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

p. Individuals desiring to be included on the Commission's mailing list should so indicate by writing to the Secretary of the Commission.

q. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

r. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the surrender application that is the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 29, 2022.
Kimberly D. Bose,
Secretary.

[FR Doc. 2022-09638 Filed 5-4-22; 8:45 am]

BILLING CODE 6717-01-P